DEPARTMENT OF DEFENSE

GENERAL SERVICES ADMINISTRATION

NATIONAL AERONAUTICS AND SPACE ADMINISTRATION

[OMB Control No. 9000-0012]

Federal Acquisition Regulation; Submission for OMB Review; Termination Settlement Proposal Forms (Standard Forms 1435 through 1440)

Correction

In notice document 04-12098 beginning on page 30887 in the issue of Tuesday, June 1, 2004, make the following correction:

On page 30888, in the first column, in the DATES section, in the second and third lines, “[enter date 30 days after publication in the Federal Register.]” should read “July 1, 2004”.

[FR Doc. C4-12098 Filed 6-16-04; 8:45 am]

BILLING CODE 1505-01-D